DEPARTMENT OF COMMERCE

Census Bureau

Agency Information Collection Activities; Submission to the Office of Management and Budget (OMB) for Review and Approval; Comment Request; Special Census Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 11, 2025, during a 60-day comment period. This notice allows for an additional 30 days for public comments.

Agency: U.S. Census Bureau, Department of Commerce.

Title: Special Census Program.

OMB Control Number: 0607-0368.

Form Number(s): SC-Q, SC-Q(S), SC-CQ, SC-CQ(S), SC-Q-TL, SC-Q-TL(S), SC-CQ-TL, SC-CQ-TL(S), SC-Q-GE, SC-Q-GE(S), SC-RQ, SC-900 RCE, SC-50.1a, SC-693.2(ETL), SC-QE-ISR 1, SC-688(TLAC).

Type of Request: Regular submission, Request for an Extension, without Change, of a Currently Approved Collection.

Number of Respondents: 357,080.

Average Hours per Response: Approximately 10 minutes for the Special Census data collection and 45 minutes for the Governmental Unit Cost Estimate Request form.

Burden Hours: 59,560.

Needs and Uses: A special census is an enumeration of population, housing units, group quarters, and transitory locations, conducted by the Census Bureau at the request of a governmental unit (GU). The special census questionnaires will collect the same information that was gathered during the 2020 Census. Title 13, United States Code, Section 196 authorizes the Census Bureau to conduct special censuses on a cost reimbursable basis for the government of any state, county, city, or other political subdivision within a state. This includes the District of Columbia, American Indian Reservations, Alaskan Native villages, Puerto Rico, the Island Areas (e.g., American Samoa, the Commonwealth of the Northern Mariana Islands, Guam, and the U.S. Virgin Islands), and other GUs that require current population data between decennial censuses. Local officials frequently request a special census when there has been a significant population change in their community because of annexation, growth, or the addition of new group quarters facilities. Communities may also consider a special census if there was a significant number of vacant housing units during the previous decennial census that are now occupied.

A full special census is a basic enumeration of population, housing units, and group quarters for the entire area within the jurisdiction of a local GU. A partial special census is conducted using the same methodologies and procedures as a regular or full special census, but it is for an area or section within the jurisdiction of the local GU. For example, GUs may choose to conduct a partial special census for just those areas that might have experienced a large population growth or a boundary change.

Many states use special census population statistics to determine the distribution of state funds to local jurisdictions. The local jurisdictions may also use the data to plan new schools, transportation systems, housing programs, or water treatment facilities. GUs that request a special census will receive the data files containing housing unit and population counts by email when data processing and disclosure avoidance have been completed for the special census. The data will also be posted at data.census.gov for public use. These data will not be used to update official 2020 Census data products and apportionment counts, but they may be used to update data in the Census Bureau's Population Estimates Program.

The Special Census Program accepts requests for cost estimates from GUs with the Request for Cost Estimate form (SC-900 RCE), which is available on the Census Bureau website. There is no fee to submit a request form. Once this form has been reviewed by the Census Bureau, the GU and the Census Bureau coordinate to identify the exact geographic boundaries for the special census. Then the Special Census Program coordinates with participating divisions within the Census Bureau and regional offices to determine a cost estimate and timeline for the special census and presents them to the GU. The cost of a special census varies depending on the GU's housing and population counts and whether a government requests a full or partial special census. The cost estimate outlines the anticipated costs to the sponsoring government for staffing, materials, data processing and tabulation. Included with the cost estimate is a Memorandum of Agreement (MOA). Once a signed MOA and initial payment are transmitted to the Census Bureau, the special census process will begin. When data collection, processing, disclosure avoidance, and tabulation have been completed, the GU will receive official census statistics on the population and housing unit counts for the entire jurisdiction or parts of the jurisdiction, as defined in the MOA at the beginning of the special census process. All special census statistics will be subject to disclosure avoidance using differential privacy methods, consistent with the processes and methods used for 2020 Census data products, prior to their release to the public. Requests for cost estimates from GUs will be accepted through May 2027.

The Census Bureau uses an internet self-response instrument for respondents to respond online to the questionnaire. At the start of the special census, the Census Bureau will send an invitation letter to housing units in the GU's special census area with information needed to respond online. Respondents will have a number of weeks to respond to the questionnaire using the internet self-response instrument. Reminder letters and postcards will be sent to each housing unit to encourage self-response and provide information needed to do so.

Approximately 2 weeks after the end of the Special Census self-response period, the Census Bureau will conduct follow-up operations in the field to enumerate housing units that did not respond using the internet self-response instrument. Housing units that do not respond online will be contacted by a field representative who will conduct an interview using a paper questionnaire. Additionally, nonresponding housing units may be contacted by telephone for their response.

The field operations will also enumerate group quarters and transitory locations in the GU's special census area. The Census Bureau uses a paper questionnaire to conduct interviews at transitory locations and group quarters. During the field operations, field representatives also update the addresses of living quarters as needed, based on their observation of housing units, transitory locations, and group quarters.

Several quality assurance measures are implemented for each special census to ensure that high-quality data are gathered using the most efficient and cost-effective procedures. These include edits incorporated into the online questionnaire and the ability to validate potentially erroneous responses in the field. Independent quality assurance checks and reinterview of a sample of field questionnaires will also be implemented to ensure the quality of the data collected in the field.

At this time, the Special Census Program does not plan on implementing additional automated tools and methods for data collection. If anything changes in the future, a revision or a non-substantive change can be submitted at that time.

To make it easier for commenters to identify all questionnaires and other collection instruments, this 30-day Federal Register Notice includes several form numbers that were omitted from the 60-day Federal Register Notice.

Affected Public: Individuals or households; Business or other for-profit organizations; Not-for-profit institutions.

Frequency: Once.

Respondent's Obligation: Voluntary.

Legal Authority: Title 13 U.S.C. 196.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0368.

Sheleen Dumas,
Departmental PRA Compliance Officer, Office of the Under Secretary for Economic Affairs, Commerce Department.

[FR Doc. 2025-20553 Filed 11-20-25; 8:45 am]

BILLING CODE 3510-07-P